DEPARTMENT OF COMMERCE

National Oceanic and Atmospheric Administration

RIN 0648-XT89

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) will hold a work session, which is open to the public.

DATES: The HMSMT work session will start on Tuesday, February 23, 2010, and finish on Thursday, February 25, 2010. The meetings will start each day at 8:30 a.m. and continue to the finish of business each day.

ADDRESSES: The work sessions will be held in the Green Room at the La Jolla Shores Building, National Marine Fisheries Service Southwest Fisheries Science Center, 8604 La Jolla Shores Drive, La Jolla, CA 92037; telephone: (858) 334-2800.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: At their work session the HMSMT will discuss: Development of an amendment to the Fishery Management Plan for West Coast Fisheries for Highly Migratory Species to address new guidelines for National Standard 1 in the Magnuson-Stevens Conservation and Management Act, as amended; management options for limiting effort in the west coast albacore troll/baitboat fishery; and preparation of the HMS Stock Assessment and Fishery Evaluation (SAFE) report. The HMSMT will also hear reports on an electronic logbook feasibility study and current west coast Marine Recreational Information Program funded projects.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Dated: January 14, 2010.
Tracey L. Thompson,
Acting Director, Office of Sustainable Fisheries, National Marine Fisheries Service.

[FR Doc. 2010-954 Filed 1-19-10; 8:45 am]

BILLING CODE 3510-22-S